NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 70 FR 55174, and one comment was received. NSF is forwarding the proposed renewal submission to the Office of Management and Budget (OMB) for clearance simultaneously with the publication of this second notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW. Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION: Comment: On September 20, 2005, we published in the Federal Register (70 FR 55174) a 60-day notice of our intent to request renewal of this information collection authority from OMB. In that notice, we solicited public comments for 60 days ending November 21, 2005. One comment was received in response to the public notice from B. Sachau of Florham Park, NJ, via e-mail on September 20, 2005. Ms. Sachau objected to the information collection but had no specific suggestions for altering the data collection plans other than suggesting that “ * * * (t)he “bonds” between NSF and industry have become far too strong, so that the full public interest is becoming lost with this agency.”

Response: NSF believes that because the comment does not pertain to the collection of information on the required forms for which NSF is seeking OMB approval, NSF is proceeding with the clearance request.

Title: Grantee Reporting Requirements for Science and Technology Centers (STC): Integrative Partnerships.

OMB Control Number: 3145-0194.

Abstract: The National Science Foundation (NSF) requests extension of data collection (annual reports) called “Grantee Reporting Requirements for Science and Technology Centers (STC): Integrative Partnerships”. The current data collection, designed to measure the Science and Technology Centers' progress and plans, had been approved for use through January 2006. The annual reports have proven an effective means for efficiently gathering data from Centers. The data gathered through the annual reports under the current OMB approval has been used in making decisions about continued funding of individual Centers. In addition, a database of Centers' characteristics, activities, and outcomes has been created using data from these annual reports.

The Science and Technology Centers (STC): Integrative Partnerships Program supports innovation in the integrative conduct of research, education and knowledge transfer. Science and Technology Centers build intellectual and physical infrastructure within and between disciplines, weaving together knowledge creation, knowledge integration, and knowledge transfer. STCs conduct world-class research through partnerships of academic institutions, national laboratories, industrial organizations, and/or other public/private entities. Thus, new knowledge created is meaningfully linked to society.

In addition, STCs enable and foster excellence in education, the integration of research and education, and the creation of bonds between learning and inquiry so that discovery and creativity more fully support the learning process. STCs capitalize on diversity through participation in Center activities and demonstrate leadership in the involvement of groups underrepresented in science and engineering.

All Centers will be required to submit annual reports on progress and plans that are used as a basis for performance review and determining the level of continued funding. This continues the practice established under the previously approved data collection. To support this review and the management of a Center, new STCs are required to develop a set of management and performance indicators (continuing Centers have already developed these indicators). These indicators are submitted annually to NSF via FastLane. These indicators are both quantitative and descriptive and include, for example, the characteristics of Center personnel and students; sources of financial support and in-kind support; expenditures by operational component; characteristics of industrial and/or other sector participation; research activities; education activities; knowledge transfer activities; patents and licenses; publications; degrees granted to students involved in Center activities; descriptions of significant advances and other outcomes of the STCs efforts. The reporting will be added to the STC program database that has been compiled by an NSF evaluation technical assistance contractor to support decisions for continued funding of the Centers and will be made available for the 2007 program evaluation. This database captures specific information that demonstrates progress towards achieving the goals of the individual Centers and the goals of the program. Such reporting requirements are included in the cooperative agreement that is binding between the academic institution and the NSF.

Each Center's annual report provides information about the following categories of activities: (1) Research, (2) education, (3) knowledge transfer, (4) partnerships, (5) diversity, (6) management, and (7) budget issues.

For each of the categories the report describes overall objectives for the year, problems the Center has encountered in making progress towards goals for the year, specific outputs and outcomes for the year, and expected accomplishments and anticipated problems in the coming year.

Use of the Information: NSF will use the information to make decisions on continued funding for the Centers, to evaluate the yearly progress of the program and to inform the upcoming 2007 Program Evaluation. The data will be analyzed to evaluate progress towards specific goals of the STC program.

Estimate of Burden: Total hours per center are estimated to be 90-120 hours, on average approximately 100 hours; the maximum burden is expected in the first year of reporting. In the years that follow, the burden often is reduced given that a Center's internal practices and procedures are established. In most cases, the burden in subsequent years is reduced to 75% of the hourly burden in the first year, although we provide estimates allowing for the average maximum anticipated effort in the first year.

Total number of hours for 17 centers: approximately 1700 hours.

Respondents: Non-profit institutions; federal government.

Estimated Number of Responses per Report: One from each of the 13 funded Centers and 4 anticipated Centers.

Comments: Comments are invited on (a) whether the proposed collection of information is necessary for the proper performance of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: December 6, 2005.
Suzanne H. Plimpton,
Reports Clearance Officer, National Science Foundation.

[FR Doc. 05-23888 Filed 12-8-05; 8:45 am]

BILLING CODE 7555-01-M